DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before May 3, 2000.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW, Washington, DC or at http://dms.dot.gov.

This notice of receipt of applications for modification of exemptions is published in accordance with part 107 of the Federal hazardous materials transportation law (49 U.S.C. 5117(b); 49 CFR 1.53(b)).

Issued in Washington, DC, on April 12, 2000.
J. Suzanne Hedgepeth,
Director, Office of Hazardous Materials, Exemptions and Approvals.

Application No. | Docket No. | Applicant | Modification of exemption
3216-M |  | DuPont SHE Excellence Center, Wilmington, DE ¹ | 3216
6658-M |  | Mason & Hanger Corp. (USDOE/Pantex Plant), Amarillo, TX ² | 6658
11316-M |  | TRW Automotive, Queen Creek, AZ ³ | 11316
1916-M | RSPA-1997-2740 | CP Industries, Inc., McKeesport, PA ⁴ | 11916
12155-M | RSPA-1998-4558 | S&C Electric Company, Chicago, IL ⁵ | 12155
12221-M | RSPA-1999-5160 | Advanced Technology Materials, Inc. (ATMI) Danbury, CT ⁶ | 12221
¹ To modify the exemption to allow for the use of an additional manufactured non-DOT specification multi-unit tank car tank for the transportation of certain Division 2.1 and 2.2 gases.
² To modify the exemption to request renewal; authorize a design change to the steel drum for the transportation of certain Division 1.1 and 1.2 materials.
³ To modify the exemption to authorize a combination tray/tote as an additional packaging method for the transportation of certain cartridges, power device classed as Division 1.4S and airbag inflators or airbag modules classed as Division 4.1 or Class 9.
⁴ To modify the exemption to authorize the use of additional DOT Specification cylinders with an outside diameter equal to or larger than 18 inches; correct language in the exemption dealing with monitoring and reporting.
⁵ To modify the exemption to authorize an alternative pressure vessel constructed of spirally-wound fiberglass for the transportation of certain Division 2.2 materials.
⁶ To modify the exemption to authorize non-DOT specification containers to be constructed of stainless steel; smaller initial capacity size for specific lab containers; and the inclusion of Division 2.2, 6.1 and additional Division 2.3 materials.

[FR Doc. 00-9638 Filed 4-17-00; 8:45 am]

BILLING CODE 4910-60-M